GENERAL SERVICES ADMINISTRATION

48 CFR Part 517

[GSAR-TA-2022-01; Docket No. GSA-GSAR-2021-0025; Sequence No. 1]

General Services Administration Acquisition Regulation; Personal Identity Verification Requirements Clarification; Correction

AGENCY: Office of Acquisition Policy, General Services Administration (GSA).

ACTION: Final rule; correction.

SUMMARY: The General Services Administration (GSA) is issuing this final rule to amend the General Services Administration Acquisition Regulation (GSAR) to make a needed technical amendment. This technical amendment is to remove regulatory text regarding contract administration for exercising options that was incorrectly addressed in previous rulemaking.

DATES: Effective: November 5, 2021.

FOR FURTHER INFORMATION CONTACT: Ms. Vernita L. Misidor, Procurement Analyst, at 202-357-9681 or email at gsarpolicy@gsa.gov for clarification of content. For information pertaining to status or publication schedules, contact the Regulatory Secretariat Division at 202-501-4755. Please cite GSAR-TA-2022-01.

SUPPLEMENTARY INFORMATION: This final rule amends the General Services Administration Acquisition Regulation (GSAR) to make needed technical amendments. Following internal procurement management reviews, GSA identified the need to improve certain credentialing administration processes for contractors. As a result, GSA amended the GSAR through GSAR Case 2020-G525 to clarify the personal identity verification requirements (86 FR 28499). Under this rule, language regarding contract administration for options was also removed from regulation as the language speaks to internal operating procedures. However, the amendatory instructions for the options language was noted incorrectly in the rule. This technical amendment corrects that mistake and removes section 517.207.

List of Subjects in 48 CFR Part 517

Government procurement.

Jeffrey A. Koses,
Senior Procurement Executive, Office of Acquisition Policy, Office of Governmentwide Policy, General Services Administration.

Therefore, GSA amends 48 CFR part 517 by making the following correcting amendment:

PART 517—SPECIAL CONTRACTING METHODS

1. The authority citation for 48 CFR part 517 continues to read as follows:

Authority: 40 U.S.C. 121(c).

Section 517.207 [Removed]

2. Remove section 517.207.

[FR Doc. 2021-23938 Filed 11-4-21; 8:45 am]

BILLING CODE 6820-61-P